DEPARTMENT OF TRANSPORTATION

Federal Aviation Administration

14 CFR Part 139

[Docket No. FAA-2010-0247; Notice No. 11-01]

RIN 2120-AJ70

Safety Enhancements Part 139, Certification of Airports

AGENCY: Federal Aviation Administration (FAA), DOT.

ACTION: Notice of proposed rulemaking (NPRM).

SUMMARY: The FAA proposes to amend the airport certification standards in part 139. This action would establish minimum standards for training of personnel who access the airport non-movement area (ramp and apron) to help prevent accidents and incidents in that area. A certificate holder would be required to conduct pavement surface evaluations to ensure reliability of runway surfaces in wet weather conditions. This action would also require a Surface Movement Guidance Control System (SMGCS) plan if the certificate holder conducts low visibility operations. The plan would facilitate the safe movement of aircraft and vehicles in low visibility conditions. Finally, this action would clarify the applicability of part 139 and explicitly prohibit fraudulent or intentionally false statements in a certificate application or record required to be maintained.

DATES: Send your comments on or before April 4, 2011.

ADDRESSES: You may send comments identified by Docket Number FAA-2010-0247 using any of the following methods:

• Federal eRulemaking Portal: Go to http://www.regulations.gov and follow the online instructions for sending your comments electronically.

• Mail: Send comments to Docket Operations, M-30, U.S. Department of Transportation, 1200 New Jersey Avenue, SE., West Building Ground Floor, Room W12-140, Washington, DC 20590-0001.

• Hand Delivery: Take comments to Docket Operations in Room W12-140 of the West Building Ground Floor at 1200 New Jersey Avenue, SE., Washington, DC, between 9 a.m. and 5 p.m., Monday through Friday, except Federal holidays.

• Fax: 1-202-493-2251.

For more information on the rulemaking process, see the SUPPLEMENTARY INFORMATION section of this document.

Privacy: We will post all comments received, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78) or you may visit http://DocketsInfo.dot.gov.

Docket: To read background documents or comments received, go to http://www.regulations.gov at any time and follow the online instructions for accessing the docket or go to Docket Operations in Room W12-140 of the West Building Ground Floor at 1200 New Jersey Avenue, SE., Washington, DC, between 9 a.m. and 5 p.m., Monday through Friday, except Federal holidays.

FOR FURTHER INFORMATION CONTACT: For technical questions concerning this proposed rule, contact Kenneth Langert, Federal Aviation Administration, Office of Airports Safety and Standards, Airport Safety and Operations Division (AAS-300), 800 Independence Avenue, SW., Washington, DC 20591; telephone (202) 493-4529; fax (202) 493-1416; e-mail: kenneth.langert@faa.gov. For legal questions concerning this rule, contact Robert Hawks, Office of the Chief Counsel, Regulations Division, Federal Aviation Administration, 800 Independence Avenue, SW., Washington, DC 20591; telephone (202) 267-7143; fax (202) 267-7971; e-mail: rob.hawks@faa.gov.

SUPPLEMENTARY INFORMATION: Later in this preamble under the Additional Information section, we discuss how you can comment on this proposal and how we will handle your comments. Included in this discussion is related information about the docket, privacy, and the handling of proprietary or confidential business information. We also discuss how you can get a copy of this proposal and related rulemaking documents.

Authority for This Rulemaking

The FAA's authority to issue rules on aviation safety is found in Title 49 of the United States Code. Subtitle I, section 106 describes the authority of the FAA Administrator. Subtitle VII, Aviation Programs, describes in more detail the scope of the agency's authority.

The FAA is issuing this rulemaking under the authority described in subtitle VII, part A, subpart III, section 44706, “Airport operating certificates.” Under that section, Congress charges the FAA with promoting safe flight of civil aircraft in air commerce by prescribing regulations for practices, methods, and procedures the Administrator finds necessary for safety in air commerce, including issuing airport operating certificates that contain terms the Administrator finds necessary to ensure safety in air transportation. This proposed rule is within the scope of that authority because it would enhance safety in airport operations by requiring training of personnel accessing the non-movement area, periodic friction testing, and plans for low visibility operations.

Background

The FAA issues airport operating certificates (AOCs) under part 139 to certain airports serving commercial passenger-carrying operations based on the type of commercial operations and size of aircraft served. Currently, 556 of the four classes of airports (I, II, III, IV) defined in part 139 hold FAA-issued airport operating certificates. Part 139 prescribes the minimum standards for maintaining and operating the physical airport environment.

Non-Movement Area Safety Training

Currently, part 139 requires periodic training for all personnel who access movement (runways and taxiways) and safety areas. Airlines and airports provide primary safety oversight in non-movement areas (ramps and aprons). Some airports voluntarily implement training for personnel accessing the non-movement area. FAA Advisory Circular (AC) 150/5210-20, Ground Vehicle Operations on Airports ¹ provides guidance to airport operators developing training programs for safe ground vehicle operations and pedestrian control. This guidance applies to all personnel accessing the movement and non-movement areas.

¹ AC issued June 21, 2002, with a change issued March 31, 2008.

Airport ramps typically are confined, congested areas in which departing and arriving aircraft are serviced by ramp workers, including baggage, catering, and fueling personnel. Additional personnel on ramps include airport police, FAA officials, and other airport, airline, and vendor staff. The presence of large numbers of people using equipment in a relatively small area, often under significant time pressure, creates an environment for injuries and aircraft damage. Errors occur because of carelessness, distractions, confusion, inadequate training, lack of supervision, and time pressure.

The Government Accountability Office (GAO) issued a report in 2007 stating a lack of complete accident data and standards for ground handling hindered efforts to improve airport ramp safety.² The GAO found that the FAA, National Transportation Safety Board (NTSB), and Occupational Safety and Health Administration (OSHA) investigated 29 fatal ramp accidents from 2001 through 2006.³ Most fatal accidents involve ramp workers, but pilots and passengers have died in ramp accidents. The GAO report concluded that there are no Federal or industry-wide standards for ramp operations.

² See GAO Report 08-29 (November 2007).

³ See GAO Report 08-29 (November 2007).

According to a 2007 Flight Safety Foundation article, turnover among personnel typically is high, training can be spotty, and standard operating procedures may be nonexistent or ignored.⁴ The Flight Safety Foundation article also found that ramp accidents occur frequently and cause airlines to incur significant costs often not covered by insurance.

⁴ See Flight Safety Foundation “Defusing the Ramp” (May 2007).

Furthermore, activities in the non-movement area affect the safety of crewmembers and passengers after the aircraft leaves the ramp area. Undetected aircraft damage from ramp activities can cause in-flight emergencies. In December 2005, an Alaska Airlines MD-80 departing from Seattle, WA, to Burbank, CA, experienced a sudden cabin depressurization. The aircraft returned to Seattle and landed without injuries. The investigation revealed that a ramp vehicle had punctured the aircraft fuselage, but no one had reported the incident.⁵

⁵ See NTSB Report SEA06LA033 (December 2005).

Runway Pavement Surface Evaluation

Braking performance is critical for all aircraft especially on wet runway surfaces. Under certain conditions, hydroplaning or unacceptable loss of traction (tire/pavement contact) results in poor braking performance and possible loss of directional control. Standing water, runway contaminants (e.g., fuel and rubber), and smoothing or “polishing” of surface aggregates reduce friction.

Research shows that a higher level of friction is achieved by forming or cutting closely spaced transverse grooves on the runway surface, which allows rain water to escape from beneath tires of landing aircraft.⁶ Pavement grooving was the first major step in achieving safer pavement surfaces for aircraft operations in wet weather conditions. Studies conducted in the U.S. and United Kingdom determined that an open graded, thin hot-mix asphalt (HMA) surface course called “porous friction course” (PFC) also could achieve good results. This surface permits rain water to permeate through the course and drain off transversely to the side of the runway, preventing water buildup on the surface and creating a relatively dry pavement condition during rainfall. An FAA Technical Center study demonstrated that a high level of friction was maintained on PFC overlays for the entire runway length.

⁶ See Advisory Circular 150/5320-12, Measurement, Construction, and Maintenance of Skid-Resistant Airport Pavement Surfaces §§ 1-3. 2-15 (March 18, 1997).

Today, most airports in the United States use these methods and materials. Consequently, the frequency of accidents and incidents caused by loss of directional control and inadequate stopping capability has been greatly reduced. However, the skid resistance of these surfaces deteriorates over time.

The FAA provides guidance and procedures in Advisory Circular 150/5320-12C, Measurement, Construction, and Maintenance of Skid Resistant Airport Pavement Surfaces. However, there is no FAA requirement for airports to regularly inspect and record runway friction levels or to ensure runways are maintained in a manner that provides adequate friction levels. Neither is there a requirement to perform tests using continuous friction measuring equipment (CFME) or to evaluate the drainage capabilities of runway surface grooving and transverse slopes.

The FAA has determined that visual evaluations of pavement friction are not sufficient. CFME provides quantitative results that can be used to determine whether friction values meet acceptable standards. A list of approved CFME can be found in AC 150/5320-12C. While some U.S. airports use CFME, others may use less effective methods to monitor build-up of rubber deposits and deterioration of friction characteristics.

Surface Movement Guidance Control System (SMGCS)

A Surface Movement Guidance Control System (SMGCS) is a system of lighting, signs, and markings that allows an aircraft to operate to and from the runway in very low visibility in a controlled and safe manner. This system provides guidance to and control of aircraft, ground vehicles, and personnel on the movement area of an airport. Guidance relates to facilities, information, and advice necessary for pilots of aircraft or drivers of ground vehicles to navigate the movement area and to keep aircraft or vehicles on the surfaces or within the areas intended for their use. Control means the measures necessary to prevent collisions and ensure traffic flows smoothly and freely.

The FAA guidance on SMGCS is available in AC 120-57A, Surface Movement Guidance and Control System. Low-visibility operations exist when Runway Visual Range (RVR) reports on any active runway drop below 1,200 feet RVR. AC 120-57A provides recommendations for improved safety procedures to accommodate low-visibility ground operations. Some airports voluntarily adopted AC 120-57A SMGCS practices. Some U.S. airports were approved to conduct low-visibility operations, but have not adopted all of the AC 120-57A SMGCS practices. Moreover, no FAA requirement ensures airports implement these recommendations (including optimum ground equipment, lighting, and signage) where air carriers conduct low-visibility operations.

The potential significance of a ground movement error by a vehicle or aircraft during low-visibility operations is an increasing concern as more airline operations and multiple runway configurations are planned for the National Airspace System (NAS). Additionally, technology advances such as heads-up displays (HUD) and enhanced flight vision systems (EFV) increase low-visibility operating capability. The FAA and ICAO consider the recommended low-visibility practices in AC 120-57A, and specific enhanced ground equipment and guidance, necessary to ensure safety during low-visibility ground movement operations. Additionally, the FAA now requires Surface Movement Guidance and Control System (SMGCS) for commissioning new runways under the FAA's Operations Evolution Plan (OEP).

General Discussion of the Proposal

The FAA proposes to amend § 139.303 to require periodic training for all personnel authorized to access the non-movement area. The proposal also would add the definition of “non-movement area” to § 139.5. Second, the proposal would amend § 139.305 to require a certificate holder to evaluate the surface characteristics of runways. Third, the proposal would require a certificate holder that allows operations below 1,200 feet RVR to implement a SMGCS plan in its airport certification manual (ACM). Fourth, the FAA proposes to amend § 139.1 to clarify the applicability of this part based on only the passenger seats in an aircraft used for passenger-carrying operations. Finally, the FAA proposes a new § 139.115 that would prohibit fraudulent or intentionally false statements on an application for a certificate or other record required to be kept.

Non-Movement Area Safety Training

The FAA has concluded non-movement area safety can be improved with increased training. Airport workers must be knowledgeable and aware of the various activities that take place in the non-movement area. This knowledge and awareness reduces confusion and carelessness by individuals accessing the non-movement area. Accordingly, the FAA proposes to require training for all persons authorized to access the non-movement area. This training would complement the existing training for persons accessing the movement and safety areas, and could be combined with the training for persons accessing both the movement and non-movement areas. The FAA proposes the following exceptions for this training requirement:

• Airman exercising the privileges of an applicable airman certificate;

• Persons escorted by a trained individual; and

• Other persons identified in the certificate holder's ACM.

A person would complete this training prior to accessing the non-movement area, and at least yearly thereafter. The FAA intends to make this requirement effective one year after publication of the final rule to allow certificate holders time to develop a training program and complete training for all personnel accessing the non-movement area. After the effective date of this proposal, if adopted, all persons would complete the training prior to accessing the non-movement area, unless escorted by a trained individual.

The certificate holder would provide recurrent training as often as necessary to enable the person to maintain a satisfactory level of proficiency. Appropriate schedules for recurrent training may vary widely among certificate holders and individuals because of the specific needs of each certificate holder and individual. However, this recurrent training would occur at least yearly. Certificate holders may consider requiring recurrent training when a vehicle operator renews an expired airport identification badge or when a tenant renews a lease agreement.

All training curricula would include, at a minimum, airport familiarization with airport markings, signs, and lighting, procedures for operating in the non-movement area, and duties required by the ACM or regulations. Although AC 150/5210-20 provides detailed guidance on developing training curricula, a certificate holder could determine its optimal method for completing this training. In addition to providing training on these minimum components, the FAA recommends on-the-job training for personnel prior to unescorted access to the airside of the airport.

The curricula would address procedures for access to, and operation in, ramp and apron areas. Inadvertent entry by vehicles onto movement and non-movement areas of an airport poses a danger to both the vehicle operator and aircraft attempting to land, take off, or maneuver on the airport.

Methods for controlling access to the airside depend on the type and location of the airport. The training would discuss the methods for controlling access and how a person can ensure those methods are effective. The Airport Layout Plan is a useful tool for identifying access points and general layout of the airfield.

The curricula also would include procedures for operating in the non-movement area including wearing personal protective equipment and high visibility clothing, cautious driving and speed awareness, and backing up and spotting obstructions. The training would stress that aircraft always have the right-of-way over vehicles when maneuvering on non-movement areas.

Other duties that a person might encounter and require training for include fire prevention, hazardous weather, foreign object damage (FOD) prevention, reporting accidents/incidents, safety around propeller and jet engine intakes, approaching an arriving aircraft, safely positioning ground servicing equipment, and other safety topics workers may encounter specific to the airport. A certificate holder would retain records of this training for 24 months as required by existing § 139.301(b)(1).

Additionally, the FAA proposes to clarify the training requirement for persons accessing the movement and safety areas by substituting all “persons” for all “personnel” in § 139.303(c). The FAA has interpreted personnel to be broader than airport employees, but this proposed clarification would avoid confusion in interpreting the rule.

Runway Pavement Surface Evaluation

In an effort to improve safety, the FAA proposes a requirement to evaluate the surface characteristics of runways. This proposed requirement adopts existing guidance specified in Advisory Circular 150-5320-12C, Measurement, Construction, and Maintenance of Skid Resistant Airport Pavement Surfaces.

Because runway friction characteristics change over time, periodic runway friction measurements are needed not only to identify unacceptable runway friction levels but also to identify trends in changing runway conditions. Airport operators need to locate and restore areas on the pavement surface where friction has deteriorated below acceptable levels for aircraft braking performance.

The FAA proposes amending § 139.305 to require airports to establish and implement a runway friction testing program for each runway used by jet aircraft. A certificate holder with jet aircraft traffic should schedule periodic friction evaluations of each runway that accommodates jet aircraft. Components of the program would include a testing frequency that takes into consideration the volume and type of traffic as well as friction readings from CFMEs operated by trained personnel. Corrective action would be required, as needed. The airport operator also should locate potential hydroplaning areas as well as measure the depth and width of a runway's grooves to check for wear and damage.

Airports would establish and implement a program for testing performance of grooves and transverse slopes. Components of the program would include, at a minimum, instructions and procedures for conducting visual inspection of runway surfaces, taking the runway surface material and volume of traffic into consideration. On randomly-selected trafficked portions of the runway, the airport operator would have to measure the width and depth of grooves, inspect transverse slopes for desired performance, and take corrective action if testing reveals deterioration below established levels.

Surface Movement Guidance Control System (SMGCS)

Each certificate holder with FAA-approved takeoff or landing operations below 1,200 feet RVR must provide appropriate low-visibility surface enhancements and ground movement procedures. The basis for the approval of low-visibility operations for each runway would be incorporated in the certificate holder's SMGCS plan. The plan would identify the responsibilities of all parties involved in low-visibility operations (e.g., airport operator, ATC, airport rescue and fire fighting (ARFF), air carriers, pedestrians, and ground vehicle operators). The plan should identify how and when these responsibilities will be carried out (e.g., the plan may identify different requirements for operations between 1,200 feet RVR and 600 feet RVR, and those operations below 600 feet RVR). Accordingly, the FAA proposes to amend § 139.203 to require the ACM contain a SMGCS plan for airports approved for operations below 1,200 feet RVR. The specific responsibilities are addressed in the proposed amendments to § 139.303 (personnel/training requirements), § 139.311 (marking, signs, and lighting), § 139.327 (self-inspection program), § 139.319 (aircraft rescue and firefighting (ARFF): Operational requirements), and § 139.329 (pedestrians and ground vehicles).

A SMGCS plan would facilitate the safe movement of aircraft and vehicles on the airport by establishing more rigorous control procedures and requiring enhanced visual aids. Additionally, the ability to conduct low visibility operations allows a certificate holder to stay open during poor weather conditions, thus reducing flight delays and cancellations.

Only certificate holders that conduct low-visibility operations would be required to develop and implement a SMGCS plan. These plans would vary among airports because of local conditions, and would be subject to FAA approval.

Applicability of Part 139

Currently, § 139.1(a)(1) states that an airport must be certificated under part 139 to host scheduled passenger-carrying operations of an air carrier operating aircraft designed for more than nine passenger seats, as determined by the aircraft type certificate issued by a competent civil aviation authority.

The current wording has created confusion regarding operation of a particular aircraft type, a Cessna 208B Caravan, because it is certificated as a single-pilot aircraft, but has two pilot seats. In non-revenue service, the second pilot seat may be occupied by a passenger. However, in scheduled passenger-carrying operations the operating rule, § 135.113, prohibits passengers from occupying the second pilot seat, which means there are not more than nine passenger seats during those operations.

This proposal would clarify that the applicability of part 139 is based only on passenger seats in passenger-carrying operations as determined by either the regulations under which the operation is conducted or the aircraft type certificate.

Certification and Falsification

To ensure the reliability of records maintained by a certificate holder and reviewed by the FAA, this proposal would prohibit intentionally false or fraudulent statements concerning an AOC. Specifically, the FAA proposes a new § 139.155 that prohibits the making of any fraudulent or intentionally false statement on an application for a certificate; the making of any fraudulent or intentionally false statement on any record or report required by the FAA; and the reproduction or alteration, for a fraudulent purpose, of any FAA certificate or approval. The FAA proposes to suspend or revoke an AOC for violation of any of these prohibitions by an owner, operator, or other person acting on behalf of the certificate holder. The FAA also proposes to suspend or revoke any other FAA certificate issued to the person committing the act. The requirement is similar to falsification prohibitions in 14 CFR parts 43, 61, 65, and 67.

Paperwork Reduction Act

This proposal contains an extension of a currently approved collection OMB-2120-0675 subject to review by the Office of Management and Budget (OMB) under the Paperwork Reduction Act of 1995 (44 U.S.C. 3507(d)). The title, description, and number of respondents, frequency of the collection, and estimate of the annual total reporting and recordkeeping burden are shown below.

Title: Safety Enhancements to 14 CFR part 139, Certification of Airports

Summary: If adopted, § 139.303(g) will require training for all personnel authorized to access the non-movement area as designated in the Airport Certification Manual, regardless of their duties or duration of access.

Affected Public: A total of 256,000 people would need to have their training records added to the airport's records.

Frequency: Once a year.

Estimated average burden per employee: 0.1 hour per employee.

Estimated Annual Burden Hours: 256,000 × .05 = 12,800.

Estimated Annual Burden Costs: 12,800 × $15.00 = $192,000.

The agency is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of collecting information on those who are to respond, including by using appropriate automated, electronic, mechanical, or other technological collection techniques or other forms of information technology.

International Compatibility

In keeping with the U.S. obligations under the Convention on International Civil Aviation, it is FAA policy to conform to International Civil Aviation Organization (ICAO) Standards and Recommended Practices to the maximum extent practicable. The FAA has reviewed the corresponding ICAO Standards and Recommended Practices and has identified no differences with these proposed regulations.

Regulatory Evaluation, Regulatory Flexibility Determination, International Trade Impact Assessment, and Unfunded Mandates Assessment

Changes to Federal regulations must undergo several economic analyses. First, Executive Order 12866 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule. Readers seeking greater detail should read the full regulatory evaluation, a copy of which is in the docket for this rulemaking.

In conducting these analyses, the FAA has determined that this proposed rule: (1) Has benefits that justify its costs, (2) is not an economically “significant regulatory action” as defined in section 3(f) of Executive Order 12866, (3) is not “significant” as defined in DOT's Regulatory Policies and Procedures; (4) would have a significant economic impact on a substantial number of small entities; (5) would not create unnecessary obstacles to the foreign commerce of the United States; and (6) would not impose an unfunded mandate on state, local, or tribal governments, or on the private sector by exceeding the threshold identified above. These analyses are summarized below.

Total Benefits and Costs of This Rule

The estimated cost of this proposed rule is $32.3 million in present value terms. The estimated potential benefits of adding safety enhancements to part 139 are $47.0 million in present value terms.

Who is Potentially Affected by this Rule?

Owners and operators of part 139 airports

Tenants and tenant employees at part 139 airports

Users of part 139 airports

Assumptions:

Discount rate—7%

Period of analysis—11 years because this provides a time period sufficient to determine an accurate estimate of benefits and costs

Value of a fatality avoided—$6.0 million

Benefits of This Rule

The benefits of this proposed rule consist of safety enhancements to part 139. These enhancements include providing additional training for people with access to the non-movement areas at airports which should reduce the number and severity of non-movement area accidents; adding a regulatory requirement for Runway Surface Evaluation Benefits, which should ensure reliability of runway surfaces in wet weather; and the development and integration of approved SMGCS plans into an ACM, which should reduce the number of diversions in bad weather. Over the 11-year period of analysis, the potential present value benefits of the proposed rule would be $47.0 million.

Costs of This Rule

This proposed rule's present value costs consist of $31.6 million for training and $0.7 million for the development and integration of approved SMGCS plans into airport ACMs. The total present value cost of this rule is about $32.3 million.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

The proposed rule has two costs, a cost for training in the non-movement area and a cost for the development and inclusion of a SMGCS plan in the ACM.

Training costs apply to all airports, regardless of size. For the training costs, the FAA estimates that approximately 20% or 111 of the total 556 certificated airports are small entities. This is a substantial number of small entities. The FAA believes that there would be a significant economic impact on these small entities. However, the FAA proposes to mitigate the costs of the rule to small entities through one or more of the following items:

○ The minimum training curricula required by the proposed rule consists of airport familiarization, procedures for operating in the non-movement area, and duties required by the ACM or regulations. The FAA would provide guidance through Advisory Circulars (ACs) and/or other publications and consultations.

○ The training materials can come from a number of sources, including the following:

➢ AC No: 150/5210-21, Date: 9/23/03, Subject: Announcement of Availability: Airport Safety Training Programs for Mechanics and Ramp Personnel This AC provides information on how to obtain two interactive CD-ROMs that inform mechanics and ramp personnel about important practices for preventing runway incursions, ramp safety practices, proper taxi procedures, and proper tug and tow practices. The CD-ROMs may be obtained free of charge from the FAA. The two CD-ROMS are:

➢ Taxi 101—This training program covers: Weather; airport familiarization; runway and taxiway signs; surface markings and lighting: aircraft preflight; flight procedures; and air traffic control procedures.

➢ Tug & Tow 101—This training program covers personal safety; ramp operations and safety; aircraft and engine hazards; communications; push back; aircraft towing; airport signs, surface and markings; weather; and air traffic control procedures.

➢ AC No.: 150/5210-20: Change 1: Date: March 31, 2008: Subject: Ground Vehicle Operations On Airports. This AC and its attached appendices is to provide guidance to airport operators in developing training programs for safe ground vehicle operations and pedestrian control on the airside of an airport. This includes both movement and non-movement areas, ramps, and aprons. This AC contains recommended operating procedures, a sample training curriculum (Appendix A), and a sample training manual (Appendix B).

➢ The American Association of Airport Executives (AAAE)—provides many training materials at low costs to airports.

➢ Private companies also sell many training materials.

➢ Training materials can include printed media, computer media, or any other effective media.

The Surface Movements Guidance and Control System (SMGCS) costs in this rule apply only to airports that have chosen to implement a SMCGS plan. The FAA estimates that there are currently 54 airports with approved SMCGS plans and 78 airports that are currently seeking to provide for low visibility operations but do not yet have a SMGCS plan. The costs of SMGCS plans may be significant. However, the cost of SMGCS plans has been and will be mitigated by AC guidance on how to prepare a plan with an example plan.

AC No.: 150/5320-12C, Date: 8/25/2004, Subject: Surface Movements Guidance and Control System contains information on how to prepare a SMGCS plan and an example of a typical SMGCS plan. It should be noted that this AC has a provision for the performance of a benefit-cost study before developing a detailed SMGCS plan. Therefore, any small entity developing a SMGCS plan would likely first determine that it would be cost-beneficial.

The actual SMGCS plan for a single runway need not be longer than 15 pages. The FAA will visit each airport to oversee and help with the SMGCS plans.

The FAA has considered alternatives to the proposed rule. For the training portion of the rule the FAA has considered doing nothing. However, this would not result in any improved safety in the ramp area. The FAA also considered a much more stringent curriculum for the ramp safety training. However, this would not allow for the differences between airports.

Therefore, the FAA believes the proposed rule is the most effective to improve ramp safety. In the case of SMGCS, most airports already have an alternative available to them. They can decide whether or not they want SMCGS facilities.

The FAA believes the proposed rule would have a significant economic impact on a large number of small entities. However the FAA believes that any adverse economic impacts that would result from the proposed rule could be substantially reduced by positive mitigations by the FAA. The FAA solicits comments regarding this determination.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this proposed rule and determined that it would have only a domestic impact and therefore would not create unnecessary obstacles to the foreign commerce of the United States.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $143.1 million in lieu of $100 million. This proposed rule does not contain such a mandate; therefore, the requirements of Title II of the Act do not apply.

Executive Order 13132, Federalism

The FAA has analyzed the proposal under the principles and criteria of Executive Order 13132, Federalism. Most airports subject to this proposal are owned, operated, or regulated by a local government body (such as a city or county government), which, in turn, is incorporated by or as part of a State. Some airports are operated directly by a State. This action would have low costs of compliance compared with the resources available to airports, and it would not alter the relationship between certificate holders and the FAA as established by law.

Accordingly, the FAA has determined that this action would not have a substantial direct effect on the States, on the relationship between the national Government and the States, or on the distribution of power and responsibilities among the various levels of government. Therefore, the FAA has determined that this rulemaking does not have federalism implications. The FAA will mail a copy of the NPRM to each State government specifically inviting comment.

Environmental Analysis

FAA Order 1050.1E identifies FAA actions that are categorically excluded from preparation of an environmental assessment or environmental impact statement under the National Environmental Policy Act (NEPA) in the absence of extraordinary circumstances. The FAA has determined this proposed rulemaking action qualifies for the categorical exclusion identified in Chapter 3, paragraph 312d, and involves no extraordinary circumstances.

Regulations That Significantly Affect Energy Supply, Distribution, or Use

The FAA has analyzed this NPRM under Executive Order 13211, Actions Concerning Regulations that Significantly Affect Energy Supply, Distribution, or Use (May 18, 2001). The agency has determined that it is not a “significant energy action” under the executive order and it is not likely to have a significant adverse effect on the supply, distribution, or use of energy.

Additional Information

Comments Invited

The FAA invites interested persons to participate in this rulemaking by submitting written comments, data, or views. The agency also invites comments relating to the economic, environmental, energy, or federalism impacts that might result from adopting the proposals in this document. The most helpful comments reference a specific portion of the proposal, explain the reason for any recommended change, and include supporting data. To ensure the docket does not contain duplicate comments, please send one copy of written comments, or if you are filing comments electronically, please submit your comments only one time.

The FAA will file in the docket all comments received, as well as a report summarizing each substantive public contact with FAA personnel concerning this proposed rulemaking. Before acting on this proposal, the FAA will consider all comments we receive on or before the closing date for comments. The agency will consider comments filed late if it is possible to do so without incurring expense or delay. This proposal may change in light of comments we receive.

Proprietary or Confidential Business Information

Do not file in the docket information that you consider to be proprietary or confidential business information. Send or deliver this information directly to the person identified in the FOR FURTHER INFORMATION CONTACT section of this document. You must mark the information that you consider proprietary or confidential. If you send the information on a disk or CD-ROM, mark the outside of the disk or CD-ROM and also identify electronically within the disk or CD-ROM the specific information that is proprietary or confidential.

Under 14 CFR 11.35(b), when the agency is aware of proprietary information filed with a comment, it is not placed in the docket. It is held in a separate file to which the public does not have access, and noted in the docket that the agency received it. If the FAA receives a request to examine or copy this information, it is treated as any other request under the Freedom of Information Act (5 U.S.C. 552). The agency processes such a request under the DOT procedures found in 49 CFR part 7.

Availability of Rulemaking Documents

You can get an electronic copy using the Internet by—

(1) Searching the Federal eRulemaking Portal (http://www.regulations.gov);

(2) Visiting the FAA's Regulations and Policies web page at http://www.faa.gov/regulations_policies/; or

(3) Accessing the Government Printing Office's web page at http://www.gpo.gov/fdsys/search/home.action.

You can also get a copy by sending a request to the Federal Aviation Administration, Office of Rulemaking, ARM-1, 800 Independence Avenue SW., Washington, DC 20591, or by calling (202) 267-9680. Make sure to identify the docket or notice number of this rulemaking.

You may access all documents the FAA considered in developing this proposed rule, including economic analyses and technical reports, from the internet through the Federal eRulemaking Portal referenced in paragraph (1).

List of Subjects in 14 CFR Part 139

Air carriers, Airports, Aviation safety, Reporting and recordkeeping requirements.

The Proposed Amendment

In consideration of the foregoing, the Federal Aviation Administration proposes to amend Chapter I of title 14, Code of Federal Regulations, as follows:

PART 139—CERTIFICATION OF AIRPORTS

1. The authority citation for part 139 continues to read as follows:

Authority: 49 U.S.C. 106(g), 40113, 44701-44702, 44709, 44719

2. Amend § 139.1 by revising paragraph (a) to read as follows:

§ 139.1 Applicability.

(a) This part prescribes rules governing the certification and operation of airports in any State of the United States, the District of Columbia, or any territory or possession of the United States serving any—

(1) Scheduled passenger-carrying operations of an air carrier operating aircraft configured for more than 9 passenger seats, as determined by the regulations under which the operation is conducted or the aircraft type certificate issued by a competent civil aviation authority; and

(2) Unscheduled passenger-carrying operations of an air carrier operating aircraft configured for at least 31 passenger seats, as determined by the regulations under which the operation is conducted or the aircraft type certificate issued by a competent civil aviation authority.

* * * * *

3. Amend § 139.5 by adding the definition of “non-movement area” in alphabetical order to read as follows:

§ 139.5 Definitions.

* * * * *

Non-movement area means the area, other than that described as the movement area, used for the loading, unloading, parking, and movement of aircraft on the airside of the airport (including ramps, apron areas, and on-airport fuel farms).

* * * * *

4. Add § 139.115 to subpart B to read as follows:

§ 139.115 Falsification, reproduction, or alteration of applications, certificates, reports, or records.

(a) No person shall make or cause to be made:

(1) Any fraudulent or intentionally false statement on any application for a certificate or approval under this part;

(2) Any fraudulent or intentionally false entry in any record or report that is required to be made, kept, or used to show compliance with any requirement under this part;

(3) Any reproduction, for a fraudulent purpose, of any certificate or approval issued under this part.

(4) Any alteration, for a fraudulent purpose, of any certificate or approval issued under this part.

(b) The commission by any owner, operator, or other person acting on behalf of a certificate holder of an act prohibited under paragraph (a) of this section is a basis for suspending or revoking any certificate or approval issued under this part and held by that certificate holder and any other certificate issued under this title and held by the person committing the act.

5. Amend § 139.203 by redesignating paragraph (b)(29) as (b)(30) and adding a new paragraph (b)(29) to read as follows:

§ 139.203 Contents of Airport Certification Manual.

* * * * *

(b) * * *

Manual elements | Airport certificate class: Class I | Airport certificate class: Class II | Airport certificate class: Class III | Airport certificate class: Class IV
* * * * * * *
29. For airports approved for low visibility takeoff or landing operations below 1200 feet runway visual range, a Surface Movement Guidance Control System (SMGCS) plan | X | X | X | X
* * * * * * *

6. Amend § 139.303 by revising paragraph (c) introductory text, redesignating paragraph (c)(5) as (c)(6), and adding a new paragraph (c)(5) and adding paragraph (g) to read as follows:

§ 139.303 Personnel.

* * * * *

(c) Train all persons who access movement areas and safety areas and perform duties in compliance with the requirements of the Airport Certification Manual and the requirements of this part. This training must be completed prior to the initial performance of such duties and at least once every 12 consecutive calendar months. The curriculum for initial and recurrent training must include at least the following areas:

* * * * *

(5) When required, duties and procedures for low visibility SMGCS operations identified in the SMGCS plan.

* * * * *

(g)(1) Train all persons who are authorized to access the non-movement area as designated in the Airport Certification Manual, regardless of their duties or duration of access. The certificate holder must ensure training is completed prior to a person's access to the non-movement area and at least once every 12 consecutive calendar months thereafter.

(2) The curriculum for initial and recurrent training must include at least the following areas:

(i) Airport familiarization, including airport marking, signs, and lighting.

(ii) Procedures for access to, and operation in, the non-movement area.

(iii) Duties required under the Airport Certification Manual and the requirements of this part.

(3) The training requirements in this paragraph (g) do not apply to airmen exercising the privileges of an applicable airman certificate, persons being escorted by a trained individual, and other persons identified in the FAA-approved Airport Certification Manual.

7. Amend § 139.305 by redesignating the paragraph (c) as (e) and by adding new paragraphs (c) and (d) to read as follows:

§ 139.305 Paved areas.

* * * * *

(c) Each certificate holder must establish and implement a runway friction testing program. The program must include, at a minimum, instructions and procedures for:

(1) Conducting friction testing on runways used by turbojet aircraft traffic.

(2) Maintaining a friction testing frequency that takes into consideration the volume and type of turbojet aircraft traffic and the actual friction conditions of the runway pavement that is conducted at least yearly.

(3) Conducting friction testing using calibrated continuous friction measuring equipment with a self-wetting system.

(4) Ensuring that the friction testing is performed by individuals qualified to use the equipment.

(5) Taking corrective action when testing reveals deterioration below acceptable levels as specified in the certificate holder's Airport Certification Manual.

(d) Each certificate holder must establish and implement a program for testing performance of grooves and transverse slopes. The program must include, at a minimum, instructions and procedures for:

(1) Conducting visual inspection of runway surfaces on a frequency that takes into consideration runway surface materials, volume of runway traffic, and conditions of runway pavement.

(2) On randomly-selected portions of the runway, measuring the width and depth of grooves.

(3) On randomly-selected portions of the runway, measuring the transverse slopes.

(4) Taking corrective action when testing reveals deterioration below acceptable levels, as specified in the certificate holder's Airport Certification Manual.

* * * * *

8. Amend § 139.311 by adding paragraphs (a)(6) and (c)(6) to read as follows:

§ 139.311 Marking, signs, and lighting.

(a) * * *

(6) SMGCS markings on low visibility taxi routes identified in the approved SMGCS plan.

* * * * *

(c) * * *

(6) SMGCS lighting to support low visibility taxi operations identified in the approved SMGCS plan.

* * * * *

9. Amend § 139.319 by adding paragraph (i)(2)(xii) to read as follows:

§ 139.319 Aircraft rescue and fire-fighting: Operational requirements.

* * * * *

(i) * * *

(2) * * *

(xii) Procedures for low visibility operations as identified in the approved SMGCS plan.

* * * * *

10. Amend § 139.327 by adding paragraph (a)(4) to read as follows:

§ 139.327 Self-inspection program.

(a) * * *

(4) When required to support low visibility SMGCS operations in accordance with the approved SMGCS plan.

* * * * *

11. Amend § 139.329 by redesignating paragraphs (e) and (f) as (f) and (g), respectively, by adding a new paragraph (e), and by revising newly redesignated paragraph (f) to read as follows:

§ 139.329 Pedestrians and ground vehicles.

* * * * *

(e) Establish and implement procedures for the safe and orderly access to and operation in movement areas and safety areas by pedestrians and ground vehicles during low visibility conditions as identified in the approved SMGCS plan.

(f) Ensure that each employee, tenant, or contractor is trained on procedures required under paragraphs (b) and (e) of this section, including consequences of noncompliance, prior to moving on foot, or operating a ground vehicle, in movement areas or safety areas; and

* * * * *

Issued in Washington, DC, on January 19, 2011.
Michael J. O'Donnell,
Director of Airport Safety and Standards.

[FR Doc. 2011-2164 Filed 1-31-11; 8:45 am]

BILLING CODE 4910-13-P